ENVIRONMENTAL PROTECTION AGENCY

[FRL-9969-71-OA]

Notification of a Public Teleconference of the Science Advisory Board Risk and Technology Review (RTR) Methods Review Panel

AGENCY: Environmental Protection Agency (EPA).

ACTION: Notice.

SUMMARY: The EPA Science Advisory Board (SAB) Staff Office announces a public teleconference meeting of the Science Advisory Board (SAB) Risk and Technology Review (RTR) Methods Panel to discuss the draft Panel report in response to the Agency request to peer review EPA's draft Screening Methodologies to Support Risk and Technology Reviews (RTR) (External Review Draft May, 2017).

DATES: The public teleconference will be held on Tuesday, December 5, 2017, from 11:00 a.m. to 3:00 p.m. (Eastern time).

ADDRESSES: The public teleconference will be held by telephone only.

FOR FURTHER INFORMATION CONTACT: Any member of the public who wants further information concerning this meeting notice may contact Dr. Bryan J. Bloomer, Designated Federal Officer (DFO), via phone at (202) 564-4222, or email at bloomer.bryan@epa.gov. General information about the SAB, as well as updates concerning the meeting announced in this notice, may be found on the EPA Web site at http://www.epa.gov/sab.

Technical Contact for EPA's Draft Reports: Any technical questions concerning EPA's draft Screening Methodologies to Support Risk and Technology Reviews (RTR) (External Review Draft May, 2017), should be directed to Chris Sarsony, EPA Office of Air and Radiation, Office of Air Quality Planning and Standards, at (919) 541-4843 or sarsony.chris@epa.gov.

SUPPLEMENTARY INFORMATION:

Background: The SAB was established pursuant to the Environmental Research, Development, and Demonstration Authorization Act (ERDAA) codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB RTR Methods Panel will hold a public teleconference to discuss its draft report regarding the EPA's draft Screening Methodologies to Support Risk and Technology Reviews (RTR) (External Review Draft May, 2017). The Panel will provide their advice to the Administrator through the chartered SAB.

EPA's Office of Air Quality Planning and Standards (OAQPS) requested that the SAB conduct a review of the methods for conducting Risk and Technology Review Assessments required by the Clean Air Act. These assessments evaluate the effects of industrial emissions of hazardous air pollutants (HAPs) on public health and the environment. The RTR Methods Review Panel convened a public face-to-face meeting on June 29-30, 2017, to deliberate on the peer review charge questions. The Panel will meet via a public teleconference to discuss the draft report developed by the Panel and to hear and consider public comments.

Availability of Meeting Materials: Prior to the meeting(s), the review documents, meeting agendas and other supporting materials (if applicable) will be accessible on the meeting page at this URL http://yosemite.epa.gov/sab/sabproduct.nsf/fedrgstr_activites/RTR%20Screening%20Methods%20Review?OpenDocument.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the EPA's charge, meeting materials, or the group providing advice. Input from the public to the SAB will have the most impact if it provides specific scientific or technical information or analysis for the SAB to consider or if it relates to the clarity or accuracy of the technical information. Members of the public wishing to provide comment should follow the instructions below to submit comments.

Oral Statements: In general, individuals or groups requesting to make an oral presentation will be limited to three minutes during a public teleconference. Interested parties wishing to provide comments should contact Dr. Bloomer (preferably via email), at the contact information noted above by November 28, 2017, to be placed on the list of public speakers for the teleconference.

Written Statements: Written statements will be accepted throughout the advisory process; however, for timely consideration by SAB members, statements should be supplied to the DFO (preferably via email) at the contact information noted above by November 28, 2017. It is the SAB Staff Office general policy to post written comments on the Web page for the advisory meeting teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Bloomer at the phone number or email address noted above, preferably at least ten days prior to the meeting, to give the EPA as much time as possible to process your request.

Dated: October 5, 2017.
Khanna Johnston,
Acting Deputy Director, EPA Science Advisory Board Staff Office.

[FR Doc. 2017-22496 Filed 10-16-17; 8:45 am]

BILLING CODE 6560-50-P